AGENCY FOR INTERNATIONAL DEVELOPMENT

Notice of Meeting

Pursuant to the Federal Advisory Committee Act, notice is hereby given of a meeting of the Advisory Committee on Voluntary Foreign Aid (ACVFA).

Date: Wednesday, March 31, 2010 (9 a.m. to 3 p.m., times may be adjusted).

Location: Jack Morton Auditorium, Media and Public Affairs Building, George Washington University, 805 21st Street, NW., Washington, DC 20052.

Please note that this is the anticipated agenda and is subject to change.

Keynote: The Administrator will present an update from the front office of USAID, presenting his vision of USAID's role in the development world, plus an update on the Haiti humanitarian efforts.

The primary focus of the meeting will be on development partnerships and what USAID can do better in working with its development partners. There will be a panel discussion on this topic.

Stakeholders. The meeting is free and open to the public. Persons wishing to attend the meeting can register online at http://www.usaid.gov/about_usaid/acvfa or with Ben Hubbard at bhubbard@usaid.gov or 202-712-4040.

Dated: January 29, 2010.
Deborah Lewis,
Office of the Chief Operating Officer, U.S. Agency for International Development.

[FR Doc. 2010-2641 Filed 2-5-10; 8:45 am]

BILLING CODE 6116-01-P